DEPARTMENT OF THE INTERIOR

Bureau of Land Management

To Remove or Modify the Survey and Manage Mitigation Measure Standards and Guidelines

AGENCY: Bureau of Land Management, Interior.

ACTION: Notice of availability of the draft Supplemental Environmental Impact Statement to remove or modify the Survey and Manage mitigation measure standards and guidelines.

SUMMARY: The Forest Service and Bureau of Land Management (BLM) (collectively the Agencies) have prepared a draft Supplemental EIS (SEIS). The Agencies are supplementing the analyses contained in the Final SEIS (2000) for Amendment to the Survey and Manage, Protection Buffer, and other Mitigation Measures Standards and Guidelines, and the Final SEIS (1994) for Amendments to Forest Service and Bureau of Land Management Planning Documents Within the Range of the Northern Spotted Owl. The responsible officials for this document have been changed. The responsible official for lands administered by the Forest Service will be the Secretary of Agriculture. The responsible official for public lands administered by the BLM will be the Secretary of the Interior. The Draft SEIS is now available for public review. Requests to receive copies of the Draft SEIS should be sent to the address listed below. Alternately, the Draft SEIS is available on the Internet at http://www.or.blm.gov/nwfpnepa.

DATES: Written comments on the Draft SEIS will be accepted for 90 days following the date that the Environmental Protection Agency publishes their Notice of Availability of the Draft SEIS in the Federal Register. The Agencies ask that those submitting comments on the Draft SEIS make them as specific as possible with reference to page numbers and chapters of the document.

ADDRESSES: If you wish to comment, you may submit your comments by any one of the following three methods. You may mail your comments to Survey and Manage, Argonne National Laboratory, EAD/900, 9700 South Cass Avenue, Argonne, IL 60439. You may comment via the Internet at http://web.ead.anl.gov/surveyandmanage. You may also comment via facsimile transmission to 1-866-542-5904. Comments received in response to this solicitation, including names and home addresses, will be considered part of the public record on this proposal and are available for public review during regular business hours. Comments, including names and home addresses, may be published as part of the Final SEIS. If you wish to withhold your name or address from public review, or from disclosure under the Freedom of Information Act (FOIA), you must state this prominently at the beginning of your written comments. Additionally, pursuant to 7 CFR 1.27(d), any person may request that submissions be withheld from the public record by showing how the FOIA permits such confidentiality. Persons requesting such confidentiality should be aware that under FOIA, confidentiality may be granted in only limited circumstances, such as to protect trade secrets. The requester will be informed of the Agencies' decision regarding the request for confidentiality. Where the request is denied, the comments will be returned to the requester and the requester will be notified that the comments may be resubmitted with or without name and address. Comments submitted anonymously will be accepted and considered. Anonymous comments do not create standing or a record of participation. All submissions from organizations and business, and from individuals identifying themselves as representatives or officials of organizations or businesses, will be available for public inspection in their entirety.

FOR FURTHER INFORMATION CONTACT: Jerry Hubbard, SEIS Team Logistics Coordinator, P.O. Box 2965, Portland, Oregon 97208, telephone (503) 326-2355, or facsimile number (503) 326-2396.

SUPLLEMENTARY INFORMATION: A limited number of individual copies of the Draft SEIS may be obtained by contacting Jerry Hubbard. Copies are also available for inspection at Forest Service and BLM offices in western Washington, western Oregon, and northwestern California.

Three alternatives, including no action, are considered in detail in the Draft SEIS. The preferred alternative is Alternative 2 with mitigation. The preferred alternative would remove the Survey and Manage Mitigation Measure and the Agencies would rely on their existing Special Status Species Programs to conserve rare species. A decision to select one of the action alternatives would amend the management direction in all 28 Forest Service land and resource management plans and BLM resource management plans in the Northwest Forest Plan area.

The responsible official for lands administered by the Forest Service will be the Secretary of Agriculture. The responsible official for public lands administered by the BLM will be the Secretary of Interior.

No public hearings or meetings are planned.

Nancy Diaz,
Acting State Director, Oregon and Washington, Bureau of Land Management.

[FR Doc. 03-12912 Filed 5-22-03; 8:45 am]

BILLING CODE 4310-33-P